DEPARTMENT OF THE INTERIOR

Bureau of Land Management

[CO-930-1430-01; COC-28647]

Public Land Order No. 7448; Opening of Land Under Section 24 of the Federal Power Act; Colorado

AGENCY: Bureau of Land Management, Interior.

ACTION: Public land order.

SUMMARY: This order opens, subject to the provisions of section 24 of the Federal Power Act, 80 acres of National Forest System land withdrawn by a Secretarial order which established Bureau of Land Management Power Site Classification No. 361. This action will permit consummation of a pending Forest Service land exchange and retain the power rights to the United States. The land has been and will remain open to mineral leasing and, under the provisions of the Mining Claims Rights Restoration Act of 1955, to mining.

EFFECTIVE DATE: July 3, 2000.

FOR FURTHER INFORMATION CONTACT: Doris E. Chelius, BLM Colorado State Office, 2850 Youngfield Street, Lakewood, Colorado 80215-7093; 303-239-3706.

By virtue of the authority vested in the Secretary of the Interior by the Act of June 10, 1920, section 24, as amended, 16 U.S.C. 818 (1994), and pursuant to the determination of the Federal Energy Regulatory Commission in DVCO-555-000, it is ordered as follows:

1. At 9 a.m. on July 3, 2000, the following described National Forest System land withdrawn by the Secretarial Order dated October 24, 1944, which established Power Site Classification No. 361, will be opened to disposal subject to the provisions of Section 24 of the Federal Power Act as specified by the Federal Energy Regulatory Commission determination DVCO-555-000, and subject to valid existing rights, the provisions of existing withdrawals, other segregations of record, and the requirements of applicable law:

Sixth Principal Meridian

Arapaho-Roosevelt National Forest

T. 6 N., R. 71 W.,

Sec. 31, SW¼NE¼ and SE¼NW¼.

The area described contains 80 acres in Larimer County.

Dated: May 22, 2000.
Sylvia V. Baca,
Assistant Secretary of the Interior.

[FR Doc. 00-13861 Filed 6-1-00; 8:45 am]

BILLING CODE 4310-JB-U